DEPARTMENT OF TRANSPORTATION

Federal Highway Administration

23 CFR Part 940

[FHWA Docket No. FHWA-99-5899]

RIN 2125-AE65

Intelligent Transportation System Architecture and Standards

AGENCY: Federal Highway Administration (FHWA), DOT.

ACTION: Final rule; technical corrections.

SUMMARY: The purpose of this document is to issue a final rule to make necessary technical corrections concerning Intelligent Transportation Systems (ITS) Architecture and Standards. These corrections are necessary because the effective date of the regulation was extended 60 days without any changes to two dates cited in the regulation that are intended to be based on the effective date of the regulation. This rule amends those dates to comply with the new effective date of the ITS Architecture and Standards rule.

EFFECTIVE DATE: April 18, 2001.

FOR FURTHER INFORMATION CONTACT: For technical information: Mr. Bob Rupert, (202) 366-2194, Office of Travel Management (HOTM-1) and Mr. Michael Freitas, (202) 366-9292, ITS Joint Program Office (HOIT-1). For legal information: Mr. Wilbert Baccus, Office of the Chief Counsel (HCC-32), (202) 366-1346, Federal Highway Administration, 400 Seventh Street, SW., Washington, DC 20590. Office hours are from 8 a.m. to 4:30 p.m., e.t., Monday through Friday, except Federal holidays.

SUPPLEMENTARY INFORMATION:

Electronic Access and Filing

An electronic copy of this document may be downloaded by using a computer, modem, and suitable communications software from the Government Printing Office's Electronic Bulletin Board Service at (202) 512-1661. Internet users may reach the Office of the Federal Register's home page at: http://www.nara.gov/fedreg and the Government Printing Office's web site at: http://www.access.gpo.gov/nara.

Background

On January 8, 2001, at 66 FR 1446, the FHWA published a final regulation regarding 23 CFR Parts 655 and 940, Intelligent Transportation Systems Architecture and Standards. The effective date of that regulation was February 7, 2001. The FHWA published a supplemental regulation extending the effective date of that regulation to April 8, 2001, at 66 FR 9198 on February 7, 2001.

The original regulation contained two dates upon which some requirement of this regulation was based; specifically, in §§ 940.9 and 940.11. Those dates were originally based on the effective date of the regulation as published on January 8, 2001. The date specified in § 940.9(b) was intended to be four years from the effective date of the regulation. The date specified in § 940.11(g) was intended to be the effective date of the regulation. When the effective date of the regulation was changed by supplemental rulemaking to April 8, 2001, those two dates cited in the regulation were not adjusted accordingly. Therefore, the purpose of this rulemaking is to correct those two dates to reflect the intent of the original rulemaking.

The FHWA's implementation of this rule without opportunity for public comment, effective immediately upon publication today in the Federal Register, is based on the good cause exceptions in 5 U.S.C. sections 553(b)(3)(B) and 553(d)(3). Seeking public comment is impractical, unnecessary, and contrary to public interest. The 60 day delay in the effective date from February 7, 2001 to April 8, 2001, was necessary to give Department officials the opportunity for further review and consideration of the new regulations, consistent with the Assistant to the President's memorandum of January 20, 2001. Given the imminence of the effective date, seeking public comment on the changes of these two dates would have been impractical, as well as contrary to the public interest in the orderly promulgation and implementation of regulations. These dates were originally based on the effective date of the regulation as published on January 8, 2001. The dates must be changed to comply with the new effective date as published on February 7, 2001. The imminence of the effective date and the impact that date has on projects that have reached their final design by that date are also good causes for making this action effective immediately upon publication.

Summary of Requirements

This final rule changes two dates in Part 940, Intelligent Transportation Systems Architecture and Standards. The date on which regions that are implementing ITS must develop a regional architecture will be changed from February 7, 2005, to April 8, 2005. The date by which projects that have reached final design are exempt from the project implementation requirements of § 940.9 will be changed from February 7, 2001, to April 8, 2001.

Rulemaking Analyses and Notices

The FHWA's issuance of this rule without prior notice and opportunity for public comment, effective immediately upon publication today in the Federal Register, is based on the good cause exceptions in 5 U.S.C. sections 553(b)(3)(B) and 553(d)(3). Seeking public comment is impracticable and unnecessary. On February 7, the FHWA delayed the effective date of its final rule until April 8. Given the imminence of the new effective date, seeking public comment on the changes of the two implementation dates contained in the rule is impractical, as well as contrary to the orderly promulgation and implementation of regulations.

Because these two implementation dates were based on the original effective date of the regulation as published on January 8, 2001, these two implementation dates now should be changed to comply with the new effective date as published on February 7, 2001. Without this change, the final rule would be effective on April 8, and would have a retroactive impact on some projects based on the previous effective date of February 7.

Moreover, the FHWA believes that further opportunity for public comment on these two implementation dates is unnecessary, because in its NPRM the FHWA had proposed that these two implementation dates be calculated from the effective date of the final rule. Today's action merely conforms the final rule to the new effective date announced on February 7. In the NPRM, the FHWA proposed the requirement that any region currently implementing ITS projects shall develop a regional architecture within 2 years of the effective date of the final rule. Commenters recommended extending this time to 4 years. The effect of today's action is to make clear that, at the time the final rule goes into effect on April 8, any region that is currently implementing ITS projects shall develop a regional architecture within 4 years. Furthermore, any ITS project that has advanced to final design by April 8 (rather than February 7) is exempt from the requirement that all ITS projects conform to the regional ITS architecture.

For these same reasons discussed above, the FHWA believes good cause exists for making this action effective immediately upon publication.

Executive Order 12866 (Regulatory Planning and Review) and DOT Regulatory Policies and Procedures

The FHWA has determined that this action is not a significant regulatory action within the meaning of Executive Order 12866 or significant within the meaning of the Department of Transportation's regulatory policies and procedures. The economic impact, if any, anticipated as a result of this action is so minimal, a full regulatory evaluation is not required.

Regulatory Flexibility Act

In compliance with the Regulatory Flexibility Act (5 U.S.C. 601-612), the FHWA has evaluated the effects of this action on small entities and has determined that this action will not have a significant economic impact on a substantial number of small entities. This action is merely to correct dates in the rule to comply with the delay in the effective date. For this reason, the FHWA certifies that this action will not have a significant impact on a substantial number of small entities.

Unfunded Mandates Reform Act of 1995

This action does not impose unfunded mandates as defined by the Unfunded Mandates Reform Act of 1995 (Public Law 104-4, March 22, 1995, 109 Stat. 48). This rule will not result in an expenditure by State, local, and tribal governments, in the aggregate, or by the private sector, of $100 million or more in any one year.

Executive Order 13132 (Federalism)

This action has been analyzed in accordance with the principles and criteria contained in Executive Order 13132, dated August 4, 1999, and the FHWA has determined that this action does not have sufficient federalism implications to warrant the preparation of a federalism assessment. The FHWA has also determined that this action does not preempt any State law or State regulation or affect the State's ability to discharge traditional State governmental functions.

Executive Order 13175 (Tribal Consultation)

The FHWA has analyzed this action under Executive Order 13175, dated November 6, 2000, and believes that this technical correction will not have substantial direct effects on one or more Indian tribes; will not impose substantial direct compliance costs on Indian tribal governments; and will not preempt tribal law. Therefore, a tribal impact statement is not required.

Executive Order 12372 (Intergovernmental Review)

Catalog of Federal Domestic Assistance Program Number 20.205, Highway planning and construction. The regulations implementing Executive Order 12372 regarding intergovernmental consultation on Federal programs and activities apply to this program.

Paperwork Reduction Act of 1995

This action does not contain information collection requirements for the purposes of the Paperwork Reduction Act of 1995, 44 U.S.C. 3501-3520.

Executive Order 12988 (Civil Justice Reform)

This action meets applicable standards in sections 3(a) and 3(b)(2) of Executive Order 12988, Civil Justice Reform, to minimize litigation, eliminate ambiguity, and reduce burden.

Executive Order 13045 (Protection of Children)

We have analyzed this action under Executive Order 13045, Protection of Children from Environmental Health Risks and Safety Risks. This rule is not an economically significant rule and does not concern an environmental risk to health or safety that may disproportionately affect children.

Executive Order 12630 (Taking of Private Property)

This rule does not effect a taking of private property or otherwise have taking implications under Executive Order 12630, Government Actions and Interference with Constitutionally Protected Property Rights.

National Environmental Policy Act

The agency has analyzed this action for the purposes of the National Environmental Policy Act of 1969, as amended (42 U.S.C. 4321-4347), and has determined that this action will not have any effect on the quality of the environment.

Regulation Identification Number

A regulation identification number (RIN) is assigned to each regulatory action listed in the Unified Agenda of Federal Regulations. The Regulatory Information Service Center publishes the Unified Agenda in April and October of each year. The RIN contained in the heading of this document can be used to cross reference this action with the Unified Agenda.

List of Subjects in 23 CFR Part 940

Design standards, Grant programs—transportation, Highways and roads, Intelligent transportation systems.

Issued on: April 11, 2001.
Vincent F. Schimmoller,
Deputy Executive Director.

In consideration of the foregoing, the FHWA amends 23 CFR Part 940 as set forth below:

PART 940—INTELLIGENT TRANSPORTATION SYSTEM ARCHITECTURE AND STANDARDS

1. The authority for 23 CFR part 940 continues to read as follows:

Authority: 23 U.S.C. 101, 106, 109, 133, 315, and 508; sec. 5206(e), Pub. L. 105-178, 112 Stat. 457 (23 U.S.C. 502 note); and 49 CFR 1.48.

§ 940.9 [Amended]

2. In § 940.9, correct the date “February 7, 2005” in paragraph (b) to read “April 8, 2005.”

§ 940.11 [Amended]

3. In § 940.11, correct the date “February 7, 2001” in paragraph (g) to read “April 8, 2001.”

[FR Doc. 01-9538 Filed 4-17-01; 8:45 am]

BILLING CODE 4910-22-P